DEPARTMENT OF TRANSPORTATION

Federal Highway Administration

Environmental Impact Statement: Skowhegan and Madison, Somerset County, ME

AGENCY: Federal Highway Administration (FHWA), DOT.

ACTION: Notice of Intent to Terminate (Withdraw) EIS.

SUMMARY: The FHWA is issuing this notice to advise the public that the Environmental Impact Statement (EIS) process for a proposed highway project examining both new highway alignments and infrastructure improvements to enhance transportation mobility and accessibility through and around Skowhegan in the Towns of Skowhegan and Madison, Maine is terminated (withdrawn). The original Notice of Intent for this EIS process was published in the Federal Register on November 29, 2005.

FOR FURTHER INFORMATION CONTACT: Mark Hasselmann, Right of Way and Environmental Programs Manager, Federal Highway Administration, Maine Division, 40 Western Avenue, Augusta, Maine 04330, Telephone (207) 622-8350, extension 103; or Judy Lindsey, Project Manager, Maine Department of Transportation, State House Station 16, Augusta, Maine 04333-0016, Telephone (207) 624-3291.

SUPPLEMENTARY INFORMATION: The FHWA, in cooperation with the Maine Department of Transportation (MaineDOT), has terminated the EIS process begun in 2005 to address mobility and accessibility needs through and around Skowhegan, Somerset County, Maine. Work on the EIS is being discontinued due to adverse economic and environmental impacts, lack of community support, and a lack of design and construction funds. Therefore, the EIS for this project has been terminated. (Catalog of Federal Domestic Assistance Program Number 20.205, Highway Planning and Construction. The regulations implementing Executive Order 12372 regarding intergovernmental consultation on Federal programs and activities apply to this program.)

Authority: 23 U.S.C. 315; 49 CFR 1.48

Issued on: August 25, 2010.
Cheryl B. Martin,
Assistant Division Administrator, Federal Highway Administration, Augusta, Maine.

[FR Doc. 2010-21811 Filed 9-2-10; 8:45 am]

BILLING CODE 4910-22-M